DEPARTMENT OF ENERGY

Notice of Availability of the Draft Environmental Impact Statement for the Kemper County IGCC Project, Kemper County, MS

AGENCY: Department of Energy.

ACTION: Notice of availability and public hearing.

SUMMARY: The U.S. Department of Energy (DOE) announces the availability of the Draft Environmental Impact Statement for the Kemper County IGCC Project (DOE/EIS-0409D) for public review and comment, as well as the date, location, and time for a public hearing. The U.S. Army Corps of Engineers (USACE) is participating as a cooperating agency in the preparation of this document. The draft environmental impact statement (EIS) analyzes the potential environmental impacts associated with the construction and operation of a project proposed by Southern Company, through its affiliate Mississippi Power Company (Mississippi Power), which was selected by DOE to receive financial assistance under the Clean Coal Power Initiative (CCPI) program. In addition, DOE may issue a loan guarantee to the project pursuant to the Energy Policy Act of 2005 (EPAct05). The loan guarantee would apply to the planning, design, permitting, equipment procurement, construction, and startup of the power plant.

DOE prepared this draft EIS in accordance with the National Environmental Policy Act of 1969 (NEPA) (42 U.S.C. 4321 et seq.), the Council on Environmental Quality (CEQ) regulations that implement the procedural provisions of NEPA (40 CFR parts 1500-1508), and the DOE procedures implementing NEPA (10 CFR part 1021).

DATES: DOE invites the public to comment on the Draft EIS during the public comment period, which ends December 21, 2009. DOE will consider all comments postmarked or received during the public comment period in preparing the Final EIS, and will consider late comments to the extent practicable.

DOE will hold a public hearing on December 1, 2009, at Kemper County High School, 429 Philadelphia Road, DeKalb, Mississippi beginning at 7 p.m. An informational session will be held at the same location from 5 p.m. to 7 p.m., preceding the public hearing on the same day. Requests to speak at the public hearing can be made by calling or writing the EIS Document Manager (see ADDRESSES). Requests to speak not submitted prior to the hearing will be accepted in the order in which they are received during the hearing. Speakers are encouraged to provide a written version of their oral comments for the record. Each speaker will be allowed five minutes to present comments unless more time is requested and available. Comments will be recorded by a court reporter and will become part of the public hearing record. Oral and written comments will be given equal consideration.

The public hearing will be accessible to people with disabilities. Any individual with a disability requiring special assistance, such as a sign language interpreter or a translator, should contact Mr. Richard A. Hargis, Jr., NEPA Document Manager, (see ADDRESSES) at least 48 hours before the meeting so that arrangements can be made.

ADDRESSES: Requests for information about this Draft EIS or to receive a copy of it should be directed to: Richard A. Hargis, Jr., NEPA Document Manager, U.S. Department of Energy, National Energy Technology Laboratory, M/S 922-M217, P.O. Box 10940, Pittsburgh, PA 15236. Additional information about the Draft EIS may also be requested by electronic mail: Kemper-EIS@netl.doe.gov or by telephone at (412) 386-6065, or toll free at: (888) 322-7436, x6065.

The Draft EIS will be available at http://www.gc.energy.gov/NEPA/. Copies of the Draft EIS are also available for review at the locations listed in the SUPPLEMENTARY INFORMATION section of this Notice. Written comments on the Draft EIS can be mailed to Richard A. Hargis, Jr., NEPA Document Manager, at the address noted above. Written comments may also be submitted by fax to: (412) 386-4604, or submitted electronically to: Kemper-EIS@netl.doe.gov. Oral comments on the Draft EIS will be accepted only during the public hearing scheduled for the date and location provided in the DATES section of this Notice.

FOR FURTHER INFORMATION: For further information on the proposed project or the draft EIS, please contact Mr. Richard A. Hargis, Jr., (see ADDRESSES). For general information regarding the DOE NEPA process, please contact: Ms. Carol M. Borgstrom, Director, Office of NEPA Policy and Compliance (GC-54), U.S. Department of Energy, 1000 Independence Avenue, SW., Washington, DC 20585-0103; telephone: 202-586-4600; fax: 202-586-7031; or leave a message at: (800) 472-2756.

SUPPLEMENTARY INFORMATION: The proposed project would demonstrate Integrated Gasification Combined Cycle (IGCC) technology using lignite coal as a feedstock for a new electricity generating plant at a site in Kemper County, Mississippi. The facilities would convert lignite coal, produced at a new mine to be developed near the power plant site by North American Coal Company, into synthesis gas (syngas) for generating a nominal 582 megawatts of electricity while reducing sulfur dioxide, oxides of nitrogen, mercury, and particulate emissions as compared to conventional lignite-fired power plants. The project would also be designed to capture up to 67 percent of the carbon dioxide (CO2) that would otherwise be emitted when firing syngas. The captured CO2 would be transported by pipeline for beneficial use and geologic storage in existing enhanced oil recovery (EOR) operations in Mississippi.

The EIS will inform DOE's decisions on whether to provide a total of $294 million in cost-shared funding (15 percent or less of the total project cost, which is currently projected to be greater than $2 billion) for the proposed project under the CCPI program. It will also inform DOE's decision on whether to issue a loan guarantee to the project pursuant to EPAct05. The USACE will evaluate the potential environmental impacts before deciding whether to issue permits under the Clean Water Act (CWA) for stream and wetland disturbances that would result from the proposed mine, power plant, electrical transmission lines, and pipelines.

The EIS evaluates the potential impacts of the proposed project, connected actions, and reasonable alternatives. Because the proposed project may affect floodplains and wetlands, the Draft EIS includes an assessment of impacts to floodplains and wetlands in accordance with DOE regulations for Compliance with Floodplains and Wetlands Environmental Review Requirements (10 CFR part 1022).

DOE analyzed two main alternatives in the Draft EIS—the Proposed Action (with or without additional mitigation) and the No Action Alternative. Under the Proposed Action, DOE would provide a total of $294 million in cost-shared funding under the CCPI program to the proposed project. DOE has already provided a portion of the total funding ($24.4 million) to Southern Company for DOE's share of the preliminary design and project definition. In addition, DOE may issue a loan guarantee pursuant to section 1703 of the Energy Policy Act of 2005 to the project.

Under the No Action Alternative, DOE would not provide continued funding under the CCPI Program or issue a loan guarantee to the project. In the absence of DOE funding, Mississippi Power could pursue two options. First, the facility and supporting infrastructure could be built as proposed without DOE funding or a loan guarantee. The connected actions would remain unchanged. The potential environmental impacts of this option would be essentially the same as the proposed action. Second, Mississippi Power could choose to cancel the IGCC project, and none of the connected actions would likely be built. This option would not contribute to the goal of the CCPI program, which is to accelerate commercial deployment of advanced coal technologies that provide the United States with clean, reliable, and affordable energy. Similarly, the No Action Alternative would not contribute to the loan guarantee program's goal of supporting energy projects that “avoid, reduce, or sequester air pollutants or anthropogenic emissions of greenhouse gases; and employ new or significantly improved technologies.” For purposes of this Draft EIS, DOE assumes that the project would not be built under the No Action Alternative.

DOE has developed an overall strategy for compliance with NEPA for the CCPI program consistent with CEQ regulations (40 CFR parts 1500 through 1508) and DOE regulations (10 CFR part 1021). This strategy has two principal elements. The first element involved an open solicitation and competitive selection process to obtain a set of projects that best meets program needs. The applications that meet the mandatory eligibility requirements constitute the range of reasonable alternatives available to DOE to meet the program's purpose and needs. Following reviews by technical, environmental, and financial panels and a comprehensive assessment by a merit review board, DOE officials selected those projects that they concluded best met the program's purposes and needs. By broadly soliciting proposals to meet the programmatic purposes and needs for DOE action and by evaluating the potential environmental impacts associated with each proposal before selecting projects that would go forward to the second step in the NEPA process, DOE considered a reasonable range of alternatives for implementing CCPI. The second step in the NEPA process consists of preparing more detailed NEPA analyses for each selected project. For this project, DOE determined that providing financial assistance or a loan guarantee (or both) to the proposed project would constitute a major federal action that may significantly affect the quality of the human environment. Therefore, DOE has prepared this EIS to assess the potential impacts on the human environment of the proposed action and reasonable alternatives.

Alternatives considered by Mississippi Power in developing the proposed project are presented in the EIS, including alternative sources of water supply, alternative routes for linear facilities (a natural gas pipeline, a reclaimed water supply pipeline, a CO2 pipeline, and new and upgraded transmission lines), and alternative levels of CO2 capture.

The draft EIS analyzes the environmental consequences that may result from the proposed action, with or without additional mitigation, and the no action alternative. The environmental consequences of connected actions are also analyzed, including: Development and operation of the adjacent lignite mine and construction and operation of linear facilities. Potential impacts identified during the scoping process and analyzed in the draft EIS relate to the following: Atmospheric resources, including climate change and options for CO2 capture, transport, and beneficial use and geologic storage; groundwater and surface water resources, including impacts on Lake Okatibbee operations; infrastructure and land use; solid wastes; visual impacts; floodplains; wetlands and streams; ecological resources; safety and health; construction-related impacts; community impacts; cultural and archaeological resources; and cumulative impacts.

Copies of the draft EIS have been distributed to Members of Congress; Native American tribal governments; Federal, state, and local officials; and agencies, organizations, and individuals who may be interested or affected. The draft EIS will be available on the Internet at http://www.gc.doe.gov/nepa/. Copies of the draft EIS are available for public review at the following locations: DeKalb Public Library, Bell St. and Main St., DeKalb, Mississippi; Meridian-Lauderdale County Public Library, 2517 Seventh St., Meridian, Mississippi; Quitman Public Library, 116 Water St., Quitman, Mississippi; Bay Springs Municipal Library, 815 S. Court St., Bay Springs, Mississippi. Additional copies also can be requested (see ADDRESSES).

Dated: October 30, 2009.
Carl O. Bauer,
Director, National Energy Technology Laboratory, Office of Fossil Energy.

[FR Doc. E9-26693 Filed 11-4-09; 8:45 am]

BILLING CODE 6450-01-P